DEPARTMENT OF DEFENSE

Office of the Secretary

[Transmittal No. 23-90]

Arms Sales Notification

AGENCY: Defense Security Cooperation Agency, Department of Defense (DoD).

ACTION: Arms sales notice.

SUMMARY: The DoD is publishing the unclassified text of an arms sales notification.

FOR FURTHER INFORMATION CONTACT: Pamela Young at (703) 953-6092, pamela.a.young14.civ@mail.mil, or dsca.ncr.rsrcmgmt.list.cns-mbx@mail.mil.

SUPPLEMENTARY INFORMATION: This 36(b)(1) arms sales notification is published to fulfill the requirements of section 155 of Public Law 104-164 dated July 21, 1996. The following is a copy of a letter to the Speaker of the House of Representatives with attached Transmittal 23-90, Policy Justification, and Sensitivity of Technology.

Dated: May 27, 2025.
Aaron T. Siegel,
Alternate OSD Federal Register Liaison Officer, Department of Defense.

Transmittal No. 23-90

Notice of Proposed Issuance of Letter of Offer Pursuant to Section 36(b)(1) of the Arms Export Control Act, as amended

(i) Prospective Purchaser: Government of Bahrain

(ii) Total Estimated Value:

Major Defense Equipment * | $1.6 billion
Other | $0.6 billion
TOTAL | $2.2 billion

Funding Source: National Funds

(iii) Description and Quantity or Quantities of Articles or Services under Consideration for Purchase:

Major Defense Equipment (MDE):

Fifty (50) M1A2 SEPv3 Abrams Main Battle Tanks

Four (4) M88A2 HERCULES Combat Recovery Vehicles

Eight (8) M1110 Joint Assault Bridges

Eight (8) M1150 Assault Breacher Vehicles

Eight (8) Heavy Assault Scissor Bridge (HASB)

One hundred (100) M240 Coaxial 7.62mm Machine Guns

Three (3) AGT1500 Gas Turbine Engines

Six thousand (6,000) 120mm M1002 Target Practice Multipurpose Tracer (TPMP-T) Projectiles

Five thousand seven hundred sixty (5,760) 120mm M1147 High Explosive Multipurpose Tracers

Non-MDE:

Also included are M2A1 .50 caliber machine guns; Common Remote Operated Weapons Station Low Profile (CROWS-LP); Forward Repair System; M250 smoke grenade launchers; service and training ammunition; M1300/M1302 Enhanced Heavy Equipment Transporter System (EHETS); M978A4 Heavy Expanded Mobility Tactical Truck (HEMTT) tanker and Load Handling System (LHS); M074A1 Palletized Load Systems and trailers and flat racks; support and test equipment; integration and test support; spare and repair parts; Special Tools and Test Equipment (STTE); communications equipment; Selective Availability Anti-Spoofing Module (SAASM)-based Global Positioning System (GPS) receivers; software delivery and support; Identification Friend or Foe (IFF) equipment; publications and technical manuals; maintenance trainers; training equipment; U.S. Government and contractor engineering, technical, and logistics support services; Next Generation Automatic Test System (NGATS); and other related elements of logistics and program support.

(iv) Military Department: Army (BA-B-ULL)

(v) Prior Related Cases, if any: None

(vi) Sales Commission, Fee, etc., Paid, Offered, or Agreed to be Paid: None

(vii) Sensitivity of Technology Contained in the Defense Article or Defense Services Proposed to be Sold: See Attached Annex

(viii) Date Report Delivered to Congress: March 19, 2024

* As defined in Section 47(6) of the Arms Export Control Act.

POLICY JUSTIFICATION

Bahrain—M1A2 Abrams Main Battle Tanks

The Government of Bahrain has requested to buy fifty (50) M1A2 SEPv3 Abrams Main Battle Tanks; four (4) M88A2 HERCULES Combat Recovery Vehicles; eight (8) M1110 Joint Assault Bridges; eight (8) M1150 Assault Breacher Vehicles; eight (8) Heavy Assault Scissor Bridge (HASB); one hundred (100) M240 Coaxial 7.62mm machine guns; three (3) AGT1500 Gas Turbine engines; six thousand (6,000) 120mm M1002 Target Practice Multipurpose Tracer (TPMP-T) projectiles; and five thousand seven hundred sixty (5,760) 120mm M1147 High Explosive Multipurpose Tracers. Also included are M2A1 .50 caliber machine guns; Common Remote Operated Weapons Station Low Profile (CROWS-LP); Forward Repair System; M250 smoke grenade launchers; service and training ammunition; M1300/M1302 Enhanced Heavy Equipment Transporter System (EHETS); M978A4 Heavy Expanded Mobility Tactical Truck (HEMTT) tanker and Load Handling System (LHS); M074A1 Palletized Load Systems and trailers and flat racks; support and test equipment; integration and test support; spare and repair parts; Special Tools and Test Equipment (STTE); communications equipment; Selective Availability Anti-Spoofing Module (SAASM)-based Global Positioning System (GPS) receivers; software delivery and support; Identification Friend or Foe (IFF) equipment; publications and technical manuals; maintenance trainers; training equipment; U.S. Government and contractor engineering, technical, and logistics support services; Next Generation Automatic Test System (NGATS); and other related elements of logistics and program support. The estimated total cost is $2.2 billion.

This proposed sale will support the foreign policy and national security objectives of the United States by helping to improve the security of a Major Non-NATO Ally that is an important force for political stability and economic progress in the Middle East.

The proposed sale will improve Bahrain's capability to meet current and future threats by providing a credible force that can deter adversaries and provide the capability to participate in regional operations with the United States and other U.S. partner nations. Bahrain will have no difficulty absorbing this equipment into its armed forces.

The proposed sale of this equipment and support will not alter the basic military balance in the region.

The principal contractors will be General Dynamics Land Systems, Sterling Heights, MI; BAE Systems, York, PA; Leonardo DRS, Arlington, VA; Honeywell Aerospace, Phoenix, AZ; RTX Corporation, McKinney, TX; and Lockheed Martin, Orlando, FL. The purchaser typically requests offsets. Any offset agreement will be defined in negotiations between the purchaser and the contractor.

Implementation of this proposed sale will require the assignment of one (1) U.S. Government and thirty (30) U.S. contractor representatives to travel to Bahrain for a duration of up to five years to support equipment fielding and training.

There will be no adverse impact on U.S. defense readiness as a result of this proposed sale.

Transmittal No. 23-90

Notice of Proposed Issuance of Letter of Offer Pursuant to Section 36(b)(1) of the Arms Export Control Act

Annex

Item No. vii

(vii) Sensitivity of Technology:

1. The M1A2 SEPv3 Abrams Tank is a third-generation American Main Battle Tank produced by General Dynamics Land Systems and named for General Creighton Abrams. The M1A2 SEPv3 (System Enhancement Package version 3) features include a multi-fuel turbine engine, composite armor, an advanced computer fire control system, separate ammunition storage in a blow-out compartment, and 120mm main gun. Extensive improvements have been integrated into the latest M1A2 SEPv3 configuration. These improvements include improved digital systems, increased electrical power margin to support demands of future technologies, line replaceable modules (LRM) to reduce operational support costs, ammunition data link to support new tank main gun rounds, and an auxiliary power unit (APU). M1A2 SEPv3 Abrams Tank components considered to contain sensitive technology in the proposed sale are as follows:

a. Export Thermal Imaging System (TIS) and Export Commander's Independent Thermal Viewer (CITV): The TIS and CITV constitute a target acquisition system which, when operated with other tank systems, gives the tank crew a substantial battlefield advantage over adversary. The TIS provides the Abrams M1A2 crew with the ability to effectively aim and fire the tank main armament system under a broad range of adverse conditions. The TIS can be operated and viewed by the tank gunner or tank commander and is the main sighting system for the tank or main gun (cannon). The CITV provides the same target acquisition system as the TIS but through a separate system that can be controlled and operated independent of the TIS.

b. Special Armor (FMS-released version of special armor): Major components of special armor are fabricated in sealed modules and in serialized removable subassemblies.

c. 120 millimeter (mm) Main Gun (Cannon) and M256 Gun Barrel: The Abrams 120mm main gun system is composed of a 120mm smoothbore gun (cannon), also referred to as the M256 gun barrel, manufactured at Watervliet Arsenal. It can fire armor-piercing fin-stabilized discarding sabot (APFSDS), other warheads, and combustible cartridge case ammunition.

d. AGT-1500 Gas Turbine Propulsion System: The use of AGT-1500 gas turbine propulsion system in the M1A2 is a unique application of armored vehicle power pack technology. The hardware is composed of the AGT-1500 engine and transmission.

e. Common Remotely Operated Weapon Station—Low Profile (CROWS-LP) (M153A2E1): The CROWS-LP allows for remote operation of the M2HB, M2A1, M240B, and M240 machine gun systems.

f. Ammunition Data Link (ADL): The ADL consists of hardware, electronics, and software. The ADL is required to effectively fire the latest generation of “smart” 120mm main gun ammunition. The ADL transmits data to main gun smart ammunition to increase its capability and effectiveness.

g. Driver Vision Enhancer: The AN/VAS-5 Driver Vision Enhancer—Abrams (DVE-A) and Rear-View Sensor System (RVSS), M88 (DVE-CV), and JAB (DVE & RVSS) are un-cooled thermal imaging systems. The DVE-A (CV) and RVSS allow for tactical vehicle movement in support of operational missions in all environmental conditions (day/night and all weather) and provides enhanced driving capability during limited visibility conditions (darkness, smoke, dust, fog, etc.).

h. AN/PSN-13 Defense Advanced Global Positioning System (GPS) Receiver (DAGR): The DAGR is a handheld GPS receiver used by the U.S. Army and select foreign military services. DAGR is a military-grade, dual-frequency receiver and has the security hardware necessary to decode GPS band signals. The DAGR is a handheld GPS receiver which utilizes Selective Availability Anti-Spoofing Module (SAASM) security. It is used for the Abrams Tank, the M88A2 Heavy Equipment Recovery Combat Utility Lifting Extraction System (HERCULES) Combat Recovery Vehicle, and the Joint Assault Bridge.

i. GPS with M-Code capability: M-Code is designed to enhance military position, navigation, and timing capabilities. M-Code is designed with improved resistance to existing and emerging threats to GPS, such as jamming and spoofing (i.e., detecting and rejecting false signals).

j. AN/PRC-158: The AN/PRC-158 is a multiband handheld radio. It is a portable, compact, tactical, software-defined combat-net radio manufactured by L3/Harris Corporation. It is used for the Abrams Tank and the M88A2 HERCULES Combat Recovery Vehicle.

k. PVS-14 Night Vision Monocular: The PVS-14 Night Vision Monocular is a rugged, lightweight, multi-purpose night vision device that has repeatedly proven itself in combat. The PVS-14 can be used as a handheld device or mounted on a head harness.

2. M88A2 HERCULES Combat Recovery Vehicle: The M88A2 HERCULES is designed to recover damaged Abrams M1 Main Battle Tanks from the battlefield. The vehicle can extricate M1s and other combat vehicles that have become bogged down or entangled and can additionally repair or replace damaged parts under fire. The M88A2 main winch is capable of 70-ton single line recovery and a 140-ton 2:1 recovery when used with a 140-ton pulley. The A-frame boom of the M88A2 can lift 35 tons when used in conjunction with the spade down. The spade can be used for light earth moving and to anchor the vehicle when using the main winch. The M88A2 employs an Auxiliary Power Unit (APU) to provide auxiliary electrical and hydraulic power when the main engine is not in operation; the APU can also be used to start other vehicles.

3. M1110 Joint Assault Bridge (JAB): The M1110 JAB is a fully tracked armored Combat Engineer System designed to provide assault bridging capabilities to armored forces. The JAB System consists of an M1A1 Abrams chassis (with A2 heavy suspension) and a hydraulic bridge launch mechanism that will launch and retrieve the Heavy Assault Scissor Bridge (HASB).

4. M1150 Assault Breacher Vehicle: The M1150 is a tracked, Combat Engineer System designed to breach mine fields and complex obstacles and provide in-stride breaching capability. It provides crew protection and vehicle survivability while having the speed and mobility to keep pace with the maneuver force.

5. The highest level of classification of defense articles, components, and services included in this potential sale is SECRET.

6. If a technologically advanced adversary were to obtain knowledge of the specific hardware and software elements, the information could be used to develop countermeasures that might reduce weapon system effectiveness or be used in the development of a system with similar or advanced capabilities.

7. A determination has been made that Bahrain can provide substantially the same degree of protection for the sensitive technology being released as the U.S. Government. This sale is necessary in furtherance of the U.S. foreign policy and national security objectives outlined in the Policy Justification.

8. All defense articles and services listed in this transmittal have been authorized for release and export to the Government of Bahrain.

[FR Doc. 2025-09788 Filed 5-29-25; 8:45 am]

BILLING CODE 6001-FR-P